DEPARTMENT OF COMMERCE

National Oceanic and Atmospheric Administration

Federal Consistency Appeal by Boyer Towing, Inc. From an Objection by the Alaska Department of Natural Resources

AGENCY: National Oceanic and Atmospheric Administration (NOAA), Department of Commerce (Commerce).

ACTION: Notice of Appeal and request for comments—administrative appeal decision record.

SUMMARY: This announcement provides notice that Boyer Towing, Inc. (“Boyer Towing”) has filed an administrative appeal with the Department of Commerce asking that the Secretary override the Alaska Department of Natural Resources (ADNR) objection to the construction of two proposed log raft mooring buoys inside of the small cover locally referred to as the “Pothole,” on the eastern shore of Woewodski Island in Wrangell Narrows, near Ketchikan, Alaska.

DATES: Public and federal agency comments on the appeal are due within 30 days of the publication of this notice.

ADDRESSES: Comments should be sent to Odin Smith, Attorney-Advisor, National Oceanic and Atmospheric Administration, U.S. Department of Commerce, 1305 East-West Highway, Room 6111, Silver Spring, MD 20910. Materials from the appeal record will be available at the NOAA Office of the General Counsel for Ocean Services.

FOR FURTHER INFORMATION CONTACT: Odin Smith, Attorney-Advisor, NOAA Office of the General Counsel, 301-713-7392.

SUPPLEMENTARY INFORMATION:

I. Notice of Appeal

Boyer Towing has filed a notice of appeal with the Secretary of Commerce pursuant to the Coastal Zone Management Act of 1972 (CZMA), 16 U.S.C. 1451 et seq., and implementing regulations found at 15 CFR Part 930, Subpart H. Boyer Towing appealed an objection raised by the ADNR to a consistency certification contained within its application to the U.S. Army Corps of Engineers for a permit necessary to construct two log raft mooring buoys inside of the small cove locally referred to as the “Pothole,” on the eastern shore of Woewodski Island in Wrangell Narrows, near Ketchikan, Alaska.

The Appellant requests that the Secretary override the State's consistency objections on grounds that the project is consistent with the objectives or purposes of the CZMA. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of Alaska's coastal management program. 15 CFR 930.121 (2005), as amended, 71 FR 787831 (Jan. 5, 2006).

II. Public and Federal Agency Comments

Written comments are invited on any of the issues that the Secretary must consider in deciding this appeal. Comments must be received within 30 days of the publication of this notice, and may be submitted to Odin Smith, Attorney-Advisory, NOAA Office of the General Counsel for Ocean Services, National Oceanic and Atmospheric Administration, U.S. Department of Commerce, 1305 East-West Highway, Room 6111, Silver Spring, MD 20910. Comments will be made available to Boyer Towing and the State.

III. Appeal Documents

NOAA intends to provide the public with access to all materials and related documents comprising the appeal record during business hours, at the NOAA Office of the General Counsel for Ocean Services.

For additional information about this appeal contact Odin Smith, 301-713-7392.

(Federal Domestic Assistance Catalog No. 11.419 Coastal Zone Management Program Assistance.)
Dated: November 20, 2006.
Joel La Bissonniere,
Assistant General Counsel for Ocean Services.

[FR Doc. 06-9379 Filed 11-22-06; 8:45 am]

BILLING CODE 3510-08-M